DEPARTMENT OF TRANSPORTATION

Federal Aviation Administration

Commercial Space Transportation Advisory Committee—Public Teleconference

AGENCY: Federal Aviation Administration (FAA), DOT.

ACTION: Notice of Commercial Space Transportation Advisory Committee Teleconference.

SUMMARY: Pursuant to Section 10(a)(2) of the Federal Advisory Committee Act (Pub. L. 92-463, 5 U.S.C. App. 2), notice is hereby given of a teleconference of the Commercial Space Transportation Advisory Committee (COMSTAC). The Teleconference will take place on Wednesday, January 27, 2016 starting at 3:00 p.m. Eastern Standard Time and will last approximately one hour. The agenda and call-in number will be posted at least one week in advance at http://www.faa.gov/go/ast.

The purpose of this teleconference is to review the International Space Policy Working Group findings and recommendations regarding a potential modification of current U.S. policy on the launching of U.S. technology on Indian launch vehicles.

Interested members of the public may submit relevant written statements for the COMSTAC members to consider under the advisory process. Statements may concern the issues and agenda items mentioned above and/or additional issues that may be relevant for the U.S. commercial space transportation industry. Interested parties wishing to submit written statements should contact Michael Beavin, COMSTAC Executive Director, (the Contact Person listed below) in writing (mail or email) by January 22, 2016, so that the information can be made available to COMSTAC members for their review and consideration before the January 27 teleconference. Written statements should be supplied in the following formats: One hard copy with original signature and/or one electronic copy via email.

An agenda will be posted on the FAA Web site at www.faa.gov/go/ast.

Individuals who plan to participate and need special assistance should inform the Contact Persons listed below in advance of the meeting.

FOR FURTHER INFORMATION CONTACT: Michael Beavin, telephone (202) 267-9051; email Michael.beavin@faa.gov, FAA Office of Commercial Space Transportation (AST-3), 800 Independence Avenue SW., Room 331, Washington, DC 20591.

Complete information regarding COMSTAC is available on the FAA Web site at: http://www.faa.gov/about/office_org/headquarters_offices/ast/advisory_committee/.

Issued in Washington, DC, January 8, 2016.
George C. Nield,
Associate Administrator for Commercial Space Transportation.

[FR Doc. 2016-00620 Filed 1-13-16; 8:45 am]

BILLING CODE 4910-13-P